DEPARTMENT OF EDUCATION

[Docket No.: ED-2022-SCC-0126]

Agency Information Collection Activities; Comment Request; Federal Student Loan Debt Relief Application and Verification Forms Request

AGENCY: Federal Student Aid (FSA), Department of Education (ED).

ACTION: Notice.

SUMMARY: In accordance with the Paperwork Reduction Act of 1995, the Department requested the Office of Management and Budget (OMB) to conduct an emergency review of a new information collection and is now requesting an extension.

DATES: The Department requested emergency processing and OMB approval for this information collection by October 7, 2022. A regular clearance process is also hereby being initiated to provide the public with the opportunity to comment under the full comment period. Interested persons are invited to submit comments on or before December 16, 2022.

ADDRESSES: To access and review all the documents related to the information collection listed in this notice, please use http://www.regulations.gov by searching the Docket ID number ED-2022-SCC-0126. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Strategic Collections and Clearance Team, Governance and Strategy Division, U.S. Department of Education, 400 Maryland Ave. SW, LBJ, Room 6W203, Washington, DC 20202-8240.

FOR FURTHER INFORMATION CONTACT: For specific questions related to collection activities, please contact Beth Grebeldinger, 202-377-4018.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Federal Student Loan Debt Relief Application and Verification Forms Request.

OMB Control Number: 1845-0167.

Type of Review: An extension without change of a currently approved collection.

Respondents/Affected Public: Individuals and Households.

Total Estimated Number of Annual Responses: 38,237,500.

Total Estimated Number of Annual Burden Hours: 8,236,075.

Abstract: The Department requested emergency processing and OMB approval for this information collection by October 7, 2022, for a new information collection. The Department is now requesting a 60-day public comment period for the regular information collection. This collection will be used to obtain information from federal student loan borrowers to determine eligibility for loan discharge announced by the Secretary of Education on August 24, 2022 under the authority of title IV of the Higher Education Act of 1965, as amended (HEA) (20 U.S.C. 1070 et seq.); 20 U.S.C. 1018(f) and 1087e(h); the Higher Education Relief Opportunities for Students Act of 2003 (20 U.S.C. 1098 bb) (including any waivers or modifications that the Secretary of Education deems necessary to make to any statutory or regulatory provision applicable to the federal student financial assistance programs under title IV of the HEA to achieve specific purposes listed in the section in connection with a war, other military operation, or a national emergency); and, 31 U.S.C. 7701 and Executive Order 9397, as amended by Executive Order 13478 (November 18, 2008). To implement the Secretary's directive, the Department must, as soon as practicable, establish a process available to all federal student loan borrowers to request a discharge, attest to their income eligibility for loan discharge, and verify that income, if requested by the Department. Federal Student Aid has developed application forms (borrower and parent), an income verification form, and a parent income waiver request in compliance with this directive. As designed, each student loan borrower would complete an online or paper student loan debt relief application form to request consideration for loan discharge within 12 months of the end of the payment pause (December 31, 2022) and must verify their income, if required, by March 31, 2024.

Dated: October 12, 2022.
Kun Mullan,
PRA Coordinator, Strategic Collections and Clearance, Governance and Strategy Division, Office of Chief Data Officer, Office of Planning, Evaluation and Policy Development.

[FR Doc. 2022-22495 Filed 10-14-22; 8:45 am]

BILLING CODE 4000-01-P